DEPARTMENT OF ENERGY

DOE Implementation Plan for Recommendation 2000-1 of the Defense Nuclear Facilities Safety Board, Stabilization and Storage of Nuclear Material

AGENCY: Department of Energy.

ACTION: Notice.

SUMMARY: The Defense Nuclear Facilities Safety Board published Recommendation 2000-1, concerning the stabilization and storage of nuclear material, on January 26, 2000 (65 FR 4237). Under section 315(e) of the Atomic Energy Act of 1954, as amended, 42 U.S.C. 2286d(e), the Department of Energy must transmit an implementation plan on Recommendation 2000-1 to the Defense Nuclear Facilities Safety Board after acceptance of the Recommendation by the Secretary. The Department's implementation plan was sent to the Safety Board on June 8, 2000, and is available for review in the Department of Energy Public Reading Rooms.

ADDRESSES: Send comments, data, views, or arguments concerning the implementation plan to: Department of Energy, 1000 Independence Avenue, SW., Washington, DC 20585.

FOR FURTHER INFORMATION CONTACT: Mr. David Huizenga, Deputy Assistant Secretary for Integration and Disposition, Environmental Management, Department of Energy, 1000 Independence Avenue, SW., Washington, DC 20585.

Issued in Washington, D.C., on June 14, 2000.
Mark B. Whitaker, Jr.,
Departmental Representative to the Defense Nuclear Facilities Safety Board.

The Secretary of Energy

June 8, 2000.

The Honorable John T. Conway,

Chairman, Defense Nuclear Facilities Safety Board, 625 Indiana Avenue, NW, suite 700, Washington, DC. 20004.

Dear Mr. Chairman: Enclosed is Revision 3 of the Department's Implementation Plan for remediating the nuclear materials identified in Recommendations 94-1 and 2000-1. This revision describes the current status of, and changes to, the Department's plans for stabilizing the nuclear materials, with significant changes included for the Hanford Spent Nuclear Fuel Project, Savannah River Site, Rocky Flats Environmental Technology Site, Los Alamos National Laboratory, and Lawrence Livermore National Laboratory. These plans and any changes to previous commitments have been discussed with members of your staff.

The enclosed plan includes discussion of all of the actions taken to date to address the urgent safety issues described in the original Recommendation 94-1. It also sets forth the Department's plans and commitments for the remaining stabilization activities called for in Recommendation 2000-1. Accordingly, the Department proposes closure of Recommendation 94-1 as we continue to track our stabilization activities under Recommendation 2000-1.

The Department is currently working closely with the Los Alamos National Laboratory to establish a satisfactory path forward for stabilization of its remaining 94-1 legacy inventory. Los Alamos completed stabilization of all of their high-risk vault items in July 1998, and stabilization of the remaining 17 priority items stored in gloveboxes is being actively pursued. Five interim commitments have been established to monitor the preparation of an integrated plan with milestones for the stabilization and discard of those items and all remaining 94-1 legacy material at Los Alamos. This plan will be available by October 31, 2000.

The Department acknowledges that the enclosed revision reflects significant delays to some of our previously approved stabilization commitments, particularly in the area of stabilization activities at the Savannah River Site. As I described in my March 13, 2000, response to your Recommendation 2000-1, these delays result from a variety of interrelated factors that include funding priorities as well as technical and management issues. In developing this plan revision, however, we have been careful to order the activities with the objective of achieving early risk reduction. We recognize the importance of these projects and will work to maximize our efficiency and attain every possible schedule acceleration.

We continue to closely track progress on all stabilization commitments and are pleased to be able to continue to show measurable progress at several sites. Of note is the completion of all remaining 94-1 activities at the Idaho National Engineering and Environmental Laboratory. We will keep you and your staff apprised of our progress in meeting the commitments at the remaining six sites. If you have any questions, please contact me or have your staff contact Mr. David Huizenga at (202) 586-5151.

Yours sincerely,
Bill Richardson.

[FR Doc. 00-15477 Filed 6-19-00; 8:45 am]

BILLING CODE 6450-01-P